DEPARTMENT OF DEFENSE

Department of the Navy

32 CFR Part 706

Certifications and Exemptions Under the International Regulations for Preventing Collisions at Sea, 1972

AGENCY: Department of the Navy, DoD.

ACTION: Final rule; change.

SUMMARY: The Department of the Navy (DoN) is amending its certifications and exemptions under the International Regulations for Preventing Collisions at Sea, 1972 (72 COLREGS), to reflect the conversion of several Navy vessels from ballistic missile submarines (SSBN) to guided missile submarines (SSGN). The Deputy Assistant Judge Advocate General (DAJAG) (Admiralty and Maritime Law) has determined that certain vessels of the SSGN Class are vessels of the Navy which, due to their special construction and purpose, cannot fully comply with certain provisions of the 72 COLREGS without interfering with their special function as naval ships. The intended effect of this rule is to warn mariners in waters where 72 COLREGS apply.

DATES: This rule is effective April 21, 2011 and is applicable beginning April 13, 2011.

FOR FURTHER INFORMATION CONTACT: Lieutenant Jaewon Choi, JAGC, U.S. Navy, Admiralty Attorney, (Admiralty and Maritime Law), Office of the Judge Advocate General, Department of the Navy, 1322 Patterson Ave., SE., Suite 3000, Washington Navy Yard, DC 20374-5066, telephone number: 202-685-5040.

SUPPLEMENTARY INFORMATION: Pursuant to the authority granted in 33 U.S.C. 1605, the DoN amends 32 CFR part 706.

This amendment provides notice that the DAJAG (Admiralty and Maritime Law), under authority delegated by the Secretary of the Navy, has certified that USS OHIO (SSBN 726), USS MICHIGAN (SSBN 727), USS FLORIDA (SSBN 728), and USS GEROGIA (SSBN 729) are vessels of the Navy which, due to their special construction and purpose, cannot fully comply with specific provisions of 72 COLREGS without interfering with their special function as naval ships. The vessels have been converted from SSBN's to SSGN's and this amendment will edit the classification of the vessels to accurately reflect their new designation as SSGN's. This amendment does not change the vessels' previously noted deviations from 72 COLREGS. The DAJAG (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on previous and unchanged technical findings that the placement of lights on these vessels in a manner differently from that prescribed herein will adversely affect the vessel's ability to perform its military functions. Furthermore, this amendment merely changes the classification of these vessels and does not reflect any changes to the placement of lights on any of these vessels.

List of Subjects in 32 CFR Part 706

Marine safety, Navigation (water), and Vessels.

For the reasons set forth in the preamble, amend part 706 of title 32 of the CFR as follows:

PART 706—CERTIFICATIONS AND EXEMPTIONS UNDER THE INTERNATIONAL REGULATIONS FOR PREVENTING COLLISIONS AT SEA, 1972

1. The authority citation for part 706 continues to read as follows:

Authority: 33 U.S.C. 1605.

2. Section 706.2 is amended as follows:

A. In Table One by amending, in alpha numerical order, by vessel number, the following entries for the SSBN Class; and

B. In Table Three, by amending, in alpha numerical order, by vessel number, the following entries for the SSBN Class:

§ 706.2 Certifications of the Secretary of the Navy under Executive Order 11964 and 33 U.S.C. 1605.

* * * * *

* * * * *

Table One
Vessel | Number | Distance in meters of forward masthead light below minimum required height 2(a)(i) Annex 1
USS OHIO | SSGN 726 | 3.70
USS MICHIGAN | SSGN 727 | 3.70
USS FLORIDA | SSGN 728 | 3.70
USS GEORGIA | SSGN 729 | 3.70

* * * * *

Table Three
* * * * *
Vessel | Number | Masthead lights arc of visibility; rule 21(a) | Side lights arc of visibility; rule 21(b) | Stern light arc of visibility; rule 21(c) | Side lights distance inboard of ship's sides in meters: Section 3(b) annex 1 | Stern light distance forward of stern in meters; rule 21(c) | Forward anchor light, height above hull in meters; Section 2(K) annex 1 | Anchor lights relationship of aft light to forward light in meters; Section 2(K) annex 1
USS OHIO | SSGN 726 | 225° | 112.5° | 209° | 5.3 | 9.0 | 3.8 | 4.0 below.
USS MICHIGAN | SSGN 727 | 225° | 225° | 209° | 5.3 | 9.0 | 3.8 | 4.0 below.
USS FLORIDA | SSGN 728 |  |  | 209° | 5.3 | 9.0 | 3.8 | 4.0 below.
USS GEORGIA | SSGN 729 | 225° |  | 209° | 5.3 | 9.0 | 3.8 | 4.0 below.

* * * * *

Approved: April 13, 2011.
M. Robb Hyde,
Commander, JAGC, U.S. Navy, Deputy Assistant Judge Advocate, General (Admiralty and Maritime Law).
Dated: April 14, 2011.
D.J. Werner,
Lieutenant Commander, Office of the Judge Advocate General, U.S. Navy, Federal Register Liaison Officer.

[FR Doc. 2011-9668 Filed 4-20-11; 8:45 am]

BILLING CODE 3810-FF-P